LEGAL SERVICES CORPORATION

Notice of Intent to Award—Grant Awards for the Provision of Civil Legal Services to Eligible Low-Income Clients Beginning January 1, 2011

AGENCY: Legal Services Corporation.

ACTION: Announcement of intention to make FY 2011 Competitive Grant Awards.

SUMMARY: The Legal Services Corporation (LSC) hereby announces its intention to award grants and contracts to provide economical and effective delivery of high quality civil legal services to eligible low-income clients, beginning January 1, 2011.

DATES: All comments and recommendations must be received on or before the close of business on November 8, 2010.

ADDRESSES: Legal Services Corporation—Competitive Grants, Legal Services Corporation; 3333 K Street, NW., Third Floor, Washington, DC 20007.

FOR FURTHER INFORMATION CONTACT: Reginald Haley, Office of Program Performance, at (202) 295-1545, or haleyr@lsc.gov.

SUPPLEMENTARY INFORMATION: Pursuant to LSC's announcement of funding availability on March 17, 2010 (75 FR 12802), and Grant Renewal applications due on June 7, 2010, LSC intends to award funds to the following organizations to provide civil legal services in the indicated service areas. Amounts are subject to change.

Service area | Applicant name | Estimated annualized funding amount
Alabama:
AL-4 | Legal Services Alabama | $7,396,581
MAL | Texas RioGrande Legal Aid | 37,880
Alaska:
NAK-1 | Alaska Legal Services Corporation | 623,109
AK-1 | Alaska Legal Services Corporation | 856,284
American Samoa:
AS-1 | American Samoa Legal Aid | 370,020
Arizona:
MAZ | Community Legal Services | 170,937
AZ-3 | Community Legal Services | 4,485,062
NAZ-6 | Southern Arizona Legal Aid | 734,407
AZ-5 | Southern Arizona Legal Aid | 2,163,181
AZ-2 | DNA-Peoples Legal Services | 621,373
NAZ-5 | DNA-Peoples Legal Services | 3,006,529
Arkansas:
AR-6 | Legal Aid of Arkansas | 1,722,713
AR-7 | Center for Arkansas Legal Services | 2,571,551
MAR | Texas RioGrande Legal Aid | 91,000
California:
NCA-1 | California Indian Legal Services | 1,017,926
CA-1 | California Indian Legal Services | 39,115
CA-2 | Greater Bakersfield Legal Assistance | 1,086,698
CA-26 | Central California Legal Services | 3,399,846
CA-29 | Legal Aid Foundation of Los Angeles | 9,389,794
CA-30 | Neighborhood Legal Services of Los Angeles County | 5,546,467
CA-12 | Inland Counties Legal Services | 4,828,427
CA-27 | Legal Services of Northern California | 4,201,048
CA-14 | Legal Aid Society of San Diego | 3,376,449
CA-31 | California Rural Legal Assistance | 5,542,782
MCA | California Rural Legal Assistance | 3,039,282
CA-28 | Bay Area Legal Aid | 4,952,559
CA-19 | Legal Aid Society of Orange County | 4,715,989
Colorado:
NCO-1 | Colorado Legal Services | 110,649
CO-6 | Colorado Legal Services | 3,971,198
MCO | Colorado Legal Services | 170,990
Connecticut:
CT-1 | Statewide Legal Services of Connecticut | 2,744,544
NCT-1 | Pine Tree Legal Assistance | 18,037
District of Columbia:
DC-1 | Neighborhood Legal Services Program of D.C. | 1,166,129
Delaware:
DE-1 | Legal Services Corporation of Delaware | 715,835
MDE | Legal Aid Bureau | 28,584
Florida:
FL-15 | Community Legal Services of Mid-Florida | 3,568,536
MFL | Florida Rural Legal Services | 1,034,003
FL-17 | Florida Rural Legal Services | 3,187,716
FL-5 | Legal Services of Greater Miami | 4,087,534
FL-13 | Legal Services of North Florida | 1,678,421
FL-16 | Bay Area Legal Services | 3,027,918
FL-14 | Three Rivers Legal Services | 2,067,313
FL-18 | Coast to Coast Legal Aid of South Florida | 2,143,298
Georgia:
GA-1 | Atlanta Legal Aid Society | 2,981,561
GA-2 | Georgia Legal Services Program | 7,576,538
MGA | Georgia Legal Services Program | 451,395
Guam:
GU-1 | Guam Legal Services Corporation | 370,521
Hawaii:
NHI-1 | Legal Aid Society of Hawaii | 263,923
HI-1 | Legal Aid Society of Hawaii | 1,602,118
Idaho:
ID-1 | Idaho Legal Aid Services | 1,368,742
NID-1 | Idaho Legal Aid Services | 74,854
MID | Idaho Legal Aid Services | 215,197
Illinois:
IL-6 | Legal Assistance Foundation of Metropolitan Chicago | 7,439,083
MIL | Legal Assistance Foundation of Metropolitan Chicago | 287,402
IL-3 | Land of Lincoln Legal Assistance Foundation | 2,849,847
IL-7 | Prairie State Legal Services | 3,182,519
Indiana:
IN-5 | Indiana Legal Services | 5,827,382
MIN | Indiana Legal Services | 130,905
Iowa:
IA-3 | Iowa Legal Aid | 2,704,246
MIA | Iowa Legal Aid | 43,439
Kansas:
KS-1 | Kansas Legal Services | 2,732,094
MKS | Kansas Legal Services | 13,685
Kentucky:
KY-10 | Legal Aid of the Bluegrass | 1,461,499
KY-2 | Legal Aid Society | 1,356,601
KY-5 | Appalachian Research and Defense Fund of Kentucky | 2,341,050
KY-9 | Kentucky Legal Aid | 1,406,281
MKY | Texas RioGrande Legal Aid | 48,998
Louisiana:
LA-1 | Capital Area Legal Services Corporation | 1,631,574
LA-10 | Acadiana Legal Service Corporation | 2,311,062
LA-11 | Legal Services of North Louisiana | 2,168,346
LA-12 | Southeast Louisiana Legal Services Corporation | 2,921,338
MLA | Texas RioGrande Legal Aid | 31,705
Maine:
MMX-1 | Pine Tree Legal Assistance | 143,791
ME-1 | Pine Tree Legal Assistance | 1,360,392
NME-1 | Pine Tree Legal Assistance | 74,262
Maryland:
MMD | Legal Aid Bureau | 104,676
MD-1 | Legal Aid Bureau | 4,567,053
Massachusetts:
MA-11 | Volunteer Lawyers Project of the Boston Bar Association | 2,344,438
MA-12 | New Center for Legal Advocacy | 1,050,861
MA-4 | Merrimack Valley Legal Services | 955,525
MA-10 | Massachusetts Justice Project | 1,736,728
Michigan:
MI-12 | Legal Services of South Central Michigan | 1,470,999
MMI | Legal Services of South Central Michigan | 693,023
MI-14 | Legal Services of Eastern Michigan | 1,577,580
MI-9 | Legal Services of Northern Michigan | 812,959
MI-15 | Legal Aid of Western Michigan | 1,919,667
MI-13 | Legal Aid and Defender Association | 4,405,468
NMI-1 | Michigan Indian Legal Services | 189,666
Minnesota:
MN-1 | Legal Aid Service of Northeastern Minnesota | 481,139
MN-6 | Central Minnesota Legal Services | 1,507,815
MN-4 | Legal Services of Northwest Minnesota Corporation | 431,224
MN-5 | Southern Minnesota Regional Legal Services | 1,401,393
MMN | Southern Minnesota Regional Legal Services | 230,351
NMN-1 | Anishinabe Legal Services | 275,346
Micronesia:
MP-1 | Micronesian Legal Services | 1,899,007
Mississippi:
MS-9 | North Mississippi Rural Legal Services | 2,310,412
MS-10 | Mississippi Center for Legal Services | 3,460,708
NMS-1 | Choctaw Legal Defense | 95,776
MMS | Texas RioGrande Legal Aid | 65,708
Missouri:
MO-3 | Legal Aid of Western Missouri | 2,044,501
MMO | Legal Aid of Western Missouri | 93,790
MO-4 | Legal Services of Eastern Missouri | 2,257,217
MO-5 | Mid-Missouri Legal Services Corporation | 449,967
MO-7 | Legal Services of Southern Missouri | 1,947,814
Montana:
MT-1 | Montana Legal Services Association | 1,304,088
NMT-1 | Montana Legal Services Association | 183,456
MMT | Montana Legal Services Association | 62,842
Nebraska:
NNE-1 | Legal Aid of Nebraska | 38,085
NE-4 | Legal Aid of Nebraska | 1,668,772
MNE | Legal Aid of Nebraska | 48,679
Nevada:
NV-1 | Nevada Legal Services | 2,187,569
NNV-1 | Nevada Legal Services | 153,209
MNV | Nevada Legal Services | 2,897
New Hampshire:
NH-1 | Legal Advice & Referral Center | 824,865
New Jersey:
NJ-15 | Legal Services of Northwest Jersey | 452,290
MNJ | South Jersey Legal Services | 138,925
NJ-16 | South Jersey Legal Services | 1,539,721
NJ-18 | Northeast New Jersey Legal Services Corporation | 2,045,247
NJ-8 | Essex-Newark Legal Services Project | 1,251,617
NJ-12 | Ocean-Monmouth Legal Services | 766,612
NJ-17 | Central Jersey Legal Services | 1,256,783
New Mexico:
NM-1 | DNA-Peoples Legal Services | 249,914
NNM-2 | DNA-Peoples Legal Services | 26,175
NM-5 | New Mexico Legal Aid | 3,152,541
MNM | New Mexico Legal Aid | 100,554
NNM-4 | New Mexico Legal Aid | 535,341
New York:
NY-21 | Legal Aid Society of Northeastern New York | 1,547,165
NY-24 | Neighborhood Legal Services | 1,547,996
NY-7 | Nassau/Suffolk Law Services Committee | 1,601,446
NY-9 | Legal Services NYC | 17,579,717
NY-23 | Legal Assistance of Western New York | 1,987,963
MNY | Legal Aid Society of Mid-New York | 318,690
NY-22 | Legal Aid Society of Mid-New York | 2,027,963
NY-20 | Legal Services of the Hudson Valley | 2,059,965
North Carolina:
MNC | Legal Aid of North Carolina | 617,060
NNC-1 | Legal Aid of North Carolina | 251,456
NC-5 | Legal Aid of North Carolina | 9,592,371
North Dakota:
MND | Southern Minnesota Regional Legal Services | 133,450
NND-3 | Legal Services of North Dakota | 310,361
ND-3 | Legal Services of North Dakota | 648,839
Ohio:
OH-20 | Community Legal Aid Services | 1,918,634
OH-18 | Legal Aid Society of Greater Cincinnati | 1,658,304
OH-21 | The Legal Aid Society of Cleveland | 2,441,094
OH-5 | Ohio State Legal Services | 1,468,039
OH-17 | Ohio State Legal Services | 1,966,419
OH-23 | Legal Aid of Western Ohio | 2,869,964
MOH | Legal Aid of Western Ohio | 145,026
Oklahoma:
NOK-1 | Oklahoma Indian Legal Services | 943,382
OK-3 | Legal Aid Services of Oklahoma | 5,159,418
MOK | Legal Aid Services of Oklahoma | 72,045
Oregon:
OR-6 | Legal Aid Services of Oregon | 3,498,610
NOR-1 | Legal Aid Services of Oregon | 212,690
MOR | Legal Aid Services of Oregon | 641,319
Pennsylvania:
MPA | Philadelphia Legal Assistance Center | 190,820
PA-1 | Philadelphia Legal Assistance Center | 3,533,573
PA-5 | Laurel Legal Services | 877,890
PA-25 | MidPenn Legal Services | 2,532,179
PA-8 | Neighborhood Legal Services Association | 1,913,586
PA-24 | North Penn Legal Services | 2,069,816
PA-11 | Southwestern Pennsylvania Legal Services | 637,805
PA-26 | Northwestern Legal Services | 835,164
PA-23 | Legal Aid of Southeastern Pennsylvania | 1,297,506
Puerto Rico:
MPR | Puerto Rico Legal Services | 334,739
PR-1 | Puerto Rico Legal Services | 18,638,972
PR-2 | Community Law Office | 394,600
Rhode Island:
RI-1 | Rhode Island Legal Services | 1,281,756
South Carolina:
SC-8 | South Carolina Legal Services | 5,606,861
MSC | South Carolina Legal Services | 227,731
South Dakota:
SD-2 | East River Legal Services | 465,303
MSD | Dakota Plains Legal Services | 4,569
SD-4 | Dakota Plains Legal Services | 551,426
NSD-1 | Dakota Plains Legal Services | 1,075,779
Tennessee:
TN-9 | Legal Aid of East Tennessee | 2,500,113
TN-4 | Memphis Area Legal Services | 1,636,706
TN-10 | Legal Aid Services of Middle Tennessee and the Cumberlands | 2,979,591
TN-7 | West Tennessee Legal Services | 763,577
MTN | Texas RioGrande Legal Aid | 73,025
Texas:
TX-14 | Legal Aid of NorthWest Texas | 8,712,148
TX-13 | Lone Star Legal Aid | 11,042,283
MTX | Texas RioGrande Legal Aid | 1,599,231
NTX-1 | Texas RioGrande Legal Aid | 36,060
TX-15 | Texas RioGrande Legal Aid | 11,847,660
Utah:
UT-1 | Utah Legal Services | 2,119,219
NUT-1 | Utah Legal Services | 94,790
MUT | Utah Legal Services | 78,093
Vermont:
VT-1 | Legal Services Law Line of Vermont | 581,788
Virgin Islands:
VI-1 | Legal Services of the Virgin Islands | 372,001
Virginia:
VA-15 | Southwest Virginia Legal Aid Society | 944,727
VA-16 | Legal Aid Society of Eastern Virginia | 1,632,053
MVA | Central Virginia Legal Aid Society | 181,586
VA-18 | Central Virginia Legal Aid Society | 1,159,370
VA-17 | Virginia Legal Aid Society | 983,439
VA-19 | Blue Ridge Legal Services | 818,008
VA-20 | Legal Services of Northern Virginia | 1,273,789
Washington:
WA-1 | Northwest Justice Project | 5,681,131
NWA-1 | Northwest Justice Project | 328,215
MWA | Northwest Justice Project | 840,371
West Virginia:
MWV | Legal Aid of West Virginia | 42,087
WV-5 | Legal Aid of West Virginia | 3,320,996
Wisconsin:
MWI | Legal Action of Wisconsin | 104,824
WI-5 | Legal Action of Wisconsin | 3,689,622
NWI-1 | Wisconsin Judicare | 178,726
WI-2 | Wisconsin Judicare | 1,014,258
Wyoming:
MWY | Legal Aid of Wyoming | 14,324
NWY-1 | Legal Aid of Wyoming | 199,098
WY-4 | Legal Aid of Wyoming | 569,030

These grants and contracts will be awarded under the authority conferred on LSC by the Legal Services Corporation Act, as amended (42 U.S.C. 2996e(a)(1)). Awards will be made so that each service area is served, although none of the listed organizations are guaranteed an award or contract. This public notice is issued pursuant to the LSC Act (42 U.S.C. 2996f(f)), with a request for comments and recommendations concerning the potential grantees within a period of thirty (30) days from the date of publication of this notice. Grants will become effective and grant funds will be distributed on or about January 1, 2011.

Dated: September 29, 2010.
Janet LaBella,
Director, Office of Program Performance, Legal Services Corporation.

[FR Doc. 2010-25245 Filed 10-7-10; 8:45 am]

BILLING CODE 7050-01-P